DEPARTMENT OF TRANSPORTATION

Federal Aviation Administration

14 CFR Part 39

[Docket No. FAA-2016-5591; Directorate Identifier 2014-NM-193-AD]

RIN 2120-AA64

Airworthiness Directives; Airbus Airplanes

AGENCY: Federal Aviation Administration (FAA), DOT.

ACTION: Notice of proposed rulemaking (NPRM).

SUMMARY: We propose to supersede Airworthiness Directive (AD) 2005-15-07, for certain Airbus Model A320-111 airplanes and Model A320-200 series airplanes. AD 2005-15-07 currently requires installing insulator and cable ties to the electrical cables of the S routes at the gaps in the raceway in the wing trailing edge and the wing tip and wing root areas. Since we issued AD 2005-15-07, we have received reports of wire chafing in the left-hand wing trailing edge. This proposed AD would require additional modifications in the trailing edges of both wings. This proposed AD would also remove airplanes from the applicability. We are proposing this AD to prevent wire chafing in the trailing edge of the wings, which could result in a short circuit in the vicinity of the fuel tanks, consequently resulting in a potential source of ignition in a fuel tank vapor space and consequent fuel tank explosion.

DATES: We must receive comments on this proposed AD by June 6, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-5591; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-5591; Directorate Identifier 2014-NM-193-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 13, 2005, we issued AD 2005-15-07, Amendment 39-14196 (70 FR 43024, July 26, 2005) (“AD 2005-15-07”). AD 2005-15-07 requires actions intended to address an unsafe condition on certain Airbus Model A320-111 airplanes and Model A320-200 series airplanes.

Since we issued AD 2005-15-07, we have received reports of wire chafing in the left-hand wing trailing edge.

The European Aviation Safety Agency (EASA), which is the Technical Agent for the Member States of the European Union, has issued EASA Airworthiness Directive 2014-0198, dated September 5, 2014 (referred to after this as the Mandatory Continuing Airworthiness Information, or “the MCAI”), to correct an unsafe condition for certain Airbus Model A320-211, -212, and -231 airplanes. The MCAI states:

Prompted by an accident * * *, the FAA published Special Federal Aviation Regulation (SFAR) 88 [(66 FR 23086, May 7, 2001)], and the Joint Aviation Authorities (JAA) published Interim Policy INT/POL/25/12.

Prompted by that regulation, the results of an Airbus review of the A320 type design identified, on certain aeroplanes, a possible ignition source in fuel tank vapour space(s). That condition, if not corrected, could result in a fuel tank explosion and consequent loss of the aeroplane.

It was, therefore, decided to modify the cable routes of the wing trailing edge, aft of the rear spar and wing tip of those aeroplanes, to be applied in service in accordance with the instructions of Airbus Service Bulletin (SB) A320-24-1062 Revision 05. Following that decision, DGAC France issued AD F-2004-173 (EASA approval number 2004-10570) to require that modification.

After that AD was issued, it was found that additional work, introduced by Airbus SB A320-24-1062 Revision 05, was not included as part of the normal accomplishment instructions, which meant that the additional work might not be accomplished. Consequently, EASA issued AD 2008-0051, retaining the requirements of DGAC France AD F-2004-173 [which corresponds to FAA AD 2005-15-07, Amendment 39-14196 (70 FR 43024, July 26, 2005)], which was superseded, and required the accomplishment of the additional work in accordance with the instructions of Airbus SB A320-24-1062 Revision 06. EASA AD 2008-0051 was revised to reduce the Applicability and to add a clarification to paragraph (2).

After EASA AD 2008-0051R1 was issued, some operators reported wire chafing in the left hand wing trailing edge. Investigation established that the wire chafing, initiated at raceway gaps, was either due to maintenance action(s), or to structure vibrations.

Prompted by these findings, Airbus developed two modifications to prevent any further wire chafing by introducing an additional protection at raceway gaps and a new cable standard in the trailing edges of both wings. Airbus published SB A320-92-1049 and SB A320-92-1052 to make these modifications available for in-service application. At the time of incorporation of Airbus SB A320-24-1062, these two modifications were considered recommended only.

EASA recently determined that this condition, if not corrected, could lead to a short circuit on 115 volts in the vicinity of fuel tanks, consequently creating another risk of ignition source in a fuel tank vapour space.

For the reasons described above, this [EASA] AD retains the requirements of EASA AD 2008-0051R1, which is superseded, and requires modifications to install the additional anti-chafing protection and the new cable standard.

This proposed AD also removes Model A320-214, -232, and -233 airplanes from the applicability because those airplane models have been modified in production or in service. You may examine the MCAI in the AD docket on the Internet at http://www.regulations.gov by searching for and locating Docket No. FAA-2016-5591.

Related Service Information Under 1 CFR Part 51

Airbus has issued Service Bulletins A320-92-1049, Revision 01, dated November 28, 2011; A320-92-1052, dated December 5, 2007; and A320-24-1062, Revision 07, dated November 28, 2011.

Airbus Service Bulletin A320-92-1049, Revision 01, dated November 28, 2011, describes procedures to install the additional anti-chafing protection.

Airbus Service Bulletin A320-92-1052, dated December 5, 2007, describes procedures to replace the current electrical cable with the new standard one.

Airbus A320-24-1062, Revision 07, dated November 28, 2011, describes procedures to install insulator and cable ties to the electrical cables of the S routes at the gaps in the raceway in the wing trailing edge and the wing tip and wing root areas.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Difference Between This Proposed AD and the MCAI or Service Information

The MCAI specifies a compliance time of 72 months for modifying the trailing edges of both wings. However, this proposed AD would require a compliance time of 60 months to be consistent with the 60-month compliance time for installing the insulator and cable ties to the electrical cables of the S routes at the gaps in the raceway in the wing trailing edge and the wing tip and wing root areas specified in AD 2005-15-07. This difference has been coordinated with EASA.

Costs of Compliance

We estimate that this proposed AD affects 47 airplanes of U.S. registry.

The actions required by AD 2005-15-07, and retained in this proposed AD take about 35 work-hours per product, at an average labor rate of $85 per work-hour. Required parts cost about $0 per product. Based on these figures, the estimated cost of the actions that are required by AD 2005-15-07 is $2,975 per product.

We also estimate that it would take about 76 work-hours per product to comply with the basic requirements of this proposed AD. The average labor rate is $85 per work-hour. Required parts would cost about $13,000 per product. Based on these figures, we estimate the cost of this proposed AD on U.S. operators to be $914,620, or $19,460 per product.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-15-07, Amendment 39-14196 (70 FR 43024, July 26, 2005), and adding the following new AD:

Airbus: Docket No. FAA-2016-5591; Directorate Identifier 2014-NM-193-AD.

(a) Comments Due Date

We must receive comments by June 6, 2016.

(b) Affected ADs

This AD replaces AD 2005-15-07, Amendment 39-14196 (70 FR 43024, July 26, 2005) (“AD 2005-15-07”).

(c) Applicability

This AD applies to Airbus Model A320-211, -212, and -231 airplanes, certificated in any category, all manufacturer serial numbers except those on which Airbus Modification 22626 has been embodied in production.

(d) Subject

Air Transport Association (ATA) of America Code 24, Electrical Power; and Code 92.

(e) Reason

This AD was prompted by reports of wire chafing in the left-hand wing trailing edge. We are issuing this AD to prevent wire chafing in the trailing edge of the wings, which could result in a short circuit in the vicinity of the fuel tanks, consequently resulting in a potential source of ignition in a fuel tank vapor space and consequent fuel tank explosion.

(f) Compliance

Comply with this AD within the compliance times specified, unless already done.

(g) Retained Modification

This paragraph restates the requirements of paragraph (f) of AD 2005-15-07, with revised service information. Within 60 months after August 30, 2005 (the effective date of AD 2005-15-07), install insulator and cable ties to the electrical cables of the S routes at the gaps in the raceway in the wing trailing edge and the wing tip and wing root areas, in accordance with Airbus Service Bulletin A320-24-1062, Revision 05, dated June 27, 2002; or the Accomplishment Instructions of Airbus Service Bulletin A320-24-1062, Revision 07, dated November 28, 2011. As of the effective date of this AD, only Airbus Service Bulletin A320-24-1062, Revision 07, dated November 28, 2011, may be used.

(h) New Requirement of This AD: Modification of Trailing Edges

Within 60 months after the effective date of this AD, modify the trailing edges of both wings by accomplishing the actions specified in paragraphs (h)(1) and (h)(2) of this AD.

(1) Install the additional anti-chafing protection in accordance with the Accomplishment Instructions of Airbus Service Bulletin A320-92-1049, Revision 01, dated November 28, 2011.

(2) Replace the current electrical cable with the new standard one in accordance with the Accomplishment Instructions of Airbus Service Bulletin A320-92-1052, dated December 5, 2007. During the replacement, ensure that the anti-chafing protection specified in Airbus Service Bulletin A320-92-1049, as required by paragraph (h)(1) of this AD, remains in place.

(i) Additional Modification

For airplanes on which the installation specified in Airbus Service Bulletin A320-24-1062, Revision 05, dated June 27, 2002, has been done: Within 60 months after the effective date of this AD, install insulators and cable ties, in accordance with “Modification—Additional Work (Introduced at Revision No. 06)” of the Accomplishment Instructions of Airbus Service Bulletin A320-24-1062, Revision 07, dated November 28, 2011.

(j) Credit for Previous Actions

(1) This paragraph provides credit for actions required by paragraphs (g) and (i) of this AD, if those actions were performed before the effective date of this AD using Airbus Service Bulletin A320-24-1062, Revision 06, dated June 26, 2007, which is not incorporated by reference in this AD.

(2) This paragraph provides credit for actions required by paragraph (h) of this AD, if those actions were performed before the effective date of this AD using Airbus Service Bulletin A320-92-1049, dated July 23, 2007, which is not incorporated by reference in this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(l) Related Information

(1) Refer to Mandatory Continuing Airworthiness Information (MCAI) EASA Airworthiness Directive 2014-0198, dated September 5, 2014, for related information. This MCAI may be found in the AD docket on the Internet at http://www.regulations.gov by searching for and locating Docket No. FAA-2016-5591.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on April 4, 2016.
Jeffrey E. Duven,
Manager, Transport Airplane Directorate, Aircraft Certification Service.

[FR Doc. 2016-08953 Filed 4-19-16; 8:45 am]

BILLING CODE 4910-13-P